DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with August anniversary dates. In accordance with the Department's regulations, we are initiating those administrative reviews.

DATES: Effective date: October 6, 2015.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with August anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (“CBP”) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

⁴ In the July initiation notice published on September 2, 2015, 80 FR 53106 (July Initiation notice), we inadvertently listed two of MCC EuroChem's production subsidiaries, OJSC Nevinnomyssky Azot & OJSC NAK Azot, as separate companies. In this notice, we are hereby correcting the error to list only MCC EuroChem. Moreover because the request for review from the petitioner, the Ad Hoc Committee of Domestic Nitrogen Producers, and its individual members, CF Industries, Inc. and PCS Nitrogen Fertilizer, L.P. misspelled the production subsidiary as OJSC Nevinnomysskiy Azot instead of OJSC Nevinnomyssky Azot, the July Initiation notice contained an incorrect spelling.

Initiation Of Reviews

In accordance with 19 CFR 351.221(c)(1)(i), we are initiating administrative reviews of the following antidumping and countervailing duty orders and findings. We intend to issue the final results of these reviews not later than August 31, 2016.

| Period to be reviewed
Antidumping Duty Proceedings
MALAYSIA: Polyethylene Retail Carrier Bags, A-557-813 | 8/1/14-7/31/15
Euro SME Sdn Bhd
MEXICO: Light Walled Rectangular Pipe and Tube, A-201-836 | 8/1/14-7/31/15
Perfiles y Herrajes LM, S.A. de C.V.
REPUBLIC OF KOREA: Large Power Transformers, A-580-867 | 8/1/14-7/31/15
Iljin
Iljin Electric Co., Ltd.
Hyosung Corporation
Hyundai Heavy Industries Co., Ltd.
LSIS Co., Ltd.
RUSSIAN FEDERATION: Solid Urea ⁴, A-821-801 | 7/1/14-6/30/15
SOCIALIST REPUBLIC OF VIETNAM: Frozen Fish Fillets, A-552-801 | 8/1/14-7/31/15
An Giang Agriculture and Foods Import-Export Joint Stock Company (AFIEX)
An Giang Fisheries Import and Export Joint Stock Company (also known as Agifish or AnGiang Fisheries Import and Export)
An My Fish Joint Stock Company (also known as Anmyfish or Anmyfishco)
An Phat Seafood Co. Ltd.
An Phu Seafood Corp. (also known as ASEAFOOD)
Anvifish Co., Ltd.
Anvifish Joint Stock Company (ANVIFISH)
Asia Commerce Fisheries Joint Stock Company (also known as Acomfish JSC or Acomfish)
Asia Pangasius Company Limited
Basa Joint Stock Company (BASACO)
Bien Dong Seafood Company Ltd., (Bien Dong Seafood)
Binh An Seafood Joint Stock Co.
Bentre Aquaproduct Import & Export Joint Company (also known as Bentre Aquaproduct or Ben Tre Aquaproduct Import and Export Joint Stock Company or Aquatex Bentre)
Bentre Forestry and Aquaproduct Import Export Joint Stock Company (also known as Ben Tre Forestry and Aquaproduct Import-Export Company or Ben Tre Forestry Aquaproduct Import-Export Company or Ben Tre Frozen Aquaproduct Export Company or Faquimex)
C.P. Vietnam Corporation
Cadovimex II Seafood Import-Export and Processing Joint Stock Company (also known as CADOVIMEX II or)
Cafatex Corporation (CAFATEX) as CADOVIMEX II Seafood Import-Export)
Can Tho Animal Fishery Products Processing Export Enterprise (also known as Cafatex)
Can Tho Import-Export Seafood Joint Stock Company
Cantho Import-Export Joint Stock Company (CASEAMEX)
Cuu Long Fish Joint Stock Company (CL-Fish),
Dai Thanh Seafoods Company Limited (DATHACO)
East Sea Seafoods LLC (ESS)
Europe Joint Stock Company
Fatifish Company Limited (FATIFISH)
GODACO Seafood Joint Stock Company (GODACO)
Golden Quality Seafood Corporation (GOLDEN QUALITY)
Green Farms Seafood Joint Stock Company (Green Farms)
Hai Huong Seafood Joint Stock Company (also known as HHFish or HH Fish)
Hiep Thanh Seafood Joint Stock Co.
Hoa Phat Seafood Import-Export and Processing J.S.C. (HOPAFISH)
Hoang Long Seafood Processing Co., Ltd. (HLS)
Hung Vuong Corporation
Hung Vuong Joint Stock Company
Hung Vuong Mascato Company Limited
Hung Vuong Seafood Joint Stock Company
Hung Vuong-Sa Dec Co. Ltd.
Hung Vuong-Vinh Long Co., Ltd.
International Development & Investment Corporation (IDI)
Lian Heng Investment Co., Ltd. (also known as Lian Heng)
Lian Hengg Trading Co., Ltd. (also known as Lian Heng)
Nam Phuong Seafood Company Ltd. (also known as Nam Phoung Seafood Company Ltd. or NAFISHCO)
Nam Viet Company Ltd.
Nam Viet Corporation (NAVICO)
Ngoc Ha Co., Ltd. Food Processing and Trading
Nha Trang Seafoods, Inc. (also known as Nha Trang Seafoods-F89 or Nha Trang Seafoods)
NTACO Corporation (NTACO)
NTSF Seafoods Joint Stock Company (NTSF)
Quang Minh Seafood Co., Ltd.
QVD Dong Thap Food Co., Ltd. (also known as Dong Thap)
QVD Food Company, Ltd.
Saigon-Mekong Fishery Co., Ltd. (also known as SAMEFICO)
Seafood Joint Stock Company No. 4—Branch Dong Tam Fisheries Processing Company (DOTASEAFOODCO)
Southern Fisheries Industries Company, Ltd. (also known as South Vina)
Southern Fishery Industries Company, Ltd. (also known as South Vina)
Sunrise Corporation
TG Fishery Holdings Corporation (also known as TG)
Thanh Hung Co., Ltd. (also known as Thanh Hung Frozen Seafood Processing Import Export Co., Ltd. or Thanh Hung)
Thien Ma Seafood Co., Ltd. (also known as THIMACO)
Thien Ma Seafoods Co., Ltd. (also known as THIMACO)
Thien Phat Seafood Co., Ltd.
Thuan Hung Co.,Ltd. (also known at THUFICO)
Thuan An Production Trading and Service Co., Ltd. (TAFISHCO)
Thuan An Production Trading and Services Co., Ltd. (TAFISHCO)
Thuan Hung Co., Ltd. (also known as THUFICO)
To Chau Joint Stock Company (TOCHAU)
Viet Phu Foods and Fish Corporation (Viet Phu)
Vinh Hoan Corporation (also known as Vinh Hoan)
Vinh Long Import-Export Company (also known as Vinh Long or Imex Cuu Long)
Vinh Quang Fisheries Corporation (also known as Vinh Quang)
Vinh Quang Fisheries Joint-Stock Company
THAILAND: Polyethylene Retail Carrier Bags, A-549-821 | 8/1/14-7/31/15
2 P Work Co., Ltd.
2PK Interplas Co., Ltd.
Angkapol Plastech Co., Ltd.
Asia Industry Co., Ltd.
Asian Packaging Limited Partnership
Bags and Gloves Co., Ltd.
Completely Co., Ltd.
C.P. Poly Industry Co., Ltd.
CT Import-Export Co., Ltd.
Dpac Inter. Corporation Co., Ltd.
DTOP Co., Ltd.
Ecoplas (Thailand) Co., Ltd.
Elite Poly and Packaging Co., Ltd.
Firstpack Co. Ltd.
G.L.K. (Thailand) Co., Ltd.
Green Smile Supply Co., Ltd.
Hinwiset Packaging Limited Partnership
K. International Packing Co., Ltd.
King Bag Co., Ltd.
King Pac Industrial Co., Ltd.
KPA Packing & Product Co., Ltd.
Napa Plastic Co., Ltd.
Naraipak Co., Ltd.
NKD Intertrade Limited Partnership
NNN Packaging Limited Partnership
Northeast Pack Company Limited
P.C.S. International Company Limited
Pasiam Ltd., Partnership
PMC Innopack Co., Ltd.
Poly Plast (Thailand) Co., Ltd.
Poly World Co., Ltd.
PPN Plaspack Limited Partnership
Prepack Thailand Co., Ltd.
PSSP Plaspack Co., Ltd.
SSGT Products Limited Partnership
Super Grip Co., Ltd.
T.P. Plaspack Co., Ltd.
T.T.P. Packaging (Thailand) Co., Ltd.
Thantawan Industry Public Co., Ltd.
Triple B Pack Co., Ltd.
Triyamook Vanich Limited Partnership
Two Path Plaspack Co., Ltd.
Udomrutpanich Limited Partnership
Win Win and Pro Pack Co. Ltd.
Winbest Industrial (Thailand) Co., Ltd.
THE PEOPLE'S REPUBLIC OF CHINA: Certain Steel Nails, A-570-909 | 8/1/14-7/31/15
Besco Machinery Industry (Zhejiang) Co., Ltd.
Cana (Tianjin) Hardware Industrial Co., Ltd.
Certified Products International Inc.
Chiieh Yung Metal Industrial Corporation
China Staple Enterprise (Tianjin) Co., Ltd.
Dezhou Hualude Hardware Products Co., Ltd.
Hebei Cangzhou New Century Foreign Trade Co. Ltd.
Huanghu Jinhai Hardware Products Co. Ltd
Huanghua Xiong Hua Hardware Product Co., Ltd.
Huanghua Yufutai Hardware Products Limited
Jining Huarong Hardware Products
Liaocheng Minghui Hardware Products Co., Ltd.
Mingguang Abundant Hardware Products Co., Ltd.
Mingguang Ruifeng Hardware Products Co., Ltd.
Nanjing Caiqing Hardware Co., Ltd.
Nanjing Yuechang Hardware Co., Ltd.
PT Enterprise Inc.
Qingdao D&L Group, Ltd.
Qingdao D&L Group Co., Ltd.
SDC International Aust. PTY. Ltd.
SDC International Australia (PTY) Ltd.
Shandong Dinglong Import & Export Co., Ltd.
Shandong Oriental Cherry Hardware Group
Shandong Oriental Cherry Hardware Import & Export Co., Ltd.
Shandong Qingyun Hongyi Hardware Products Co., Ltd.
Shanghai Curvet Hardware Products Co., Ltd.
Shanghai Yueda Nails Industry Co., Ltd.
Shanghai Yueda Fasterners Co., Ltd.
Shanxi Hairui Trade Co., Ltd.
Shanxi Pioneer Hardware Industrial Co., Ltd.
Shanxi Tianli Enterprise Co., Ltd.
Shanxi Tianli Industries Co., Ltd.
Shanxi Yuci Broad Wire Products Co., Ltd.
S-Mart (Tianjin) Technology Development Co., Ltd.
Smart (Tianjin) Technology Development Co., Ltd.
Suntec Industries Co., Ltd.
Suzhou Xingya Nail Co., Ltd.
The Stanley Works (Langfang) Fastening Systems Co., Ltd.
Stanley Black & Decker, Inc.
Tianjin Hongli Qiangsheng Import and Export Co., Ltd.
Tianjin Jinchi Metal Products Co., Ltd.
Tianjin Jinghai County Hongli Industry & Business Co.,Ltd.
Tianjin Juxiang Metal Products Co.
Tianjin Lianda Group Ltd.
Tianjin Lianda Group Co., Ltd.
Tianjin Universal Machinery Import & Export Corp.
Tianjin Zhonglian Metals Ware Co., Ltd.
Xi'an Metals & Minerals Import & Export Co., Ltd.
Zhejiang Gem-Chun Hardware Accessory Co., Ltd.
THE PEOPLE'S REPUBLIC OF CHINA: Polyethylene Retail Carrier Bags, A-570-886 | 8/1/14-7/31/15
Dongguan Nozawa Plastics Products Co., Ltd. and United Power Packaging, Ltd. (collectively Nozawa)
UKRAINE: Silicomanganese, A-823-805 | 8/1/14-7/31/15
JSC Nikopol Ferroalloy Plant
JSC Zaporizhzhya Ferroalloy Plant

Countervailing Duty Proceedings

None.

Suspension Agreements

None.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁵ Parties are hereby reminded that revised certification requirements are in effect for company/government officials as well as their representatives. All segments of any antidumping duty or countervailing duty proceedings initiated on or after August 16, 2013, should use the formats for the revised certifications provided at the end of the Final Rule.⁶ The Department intends to reject factual submissions in any proceeding segments if the submitting party does not comply with applicable revised certification requirements.

⁵ See section 782(b) of the Act.

⁶ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: September 30, 2015.
Christian Marsh,
Deputy Assistant Secretary for Antidumping and Countervailing Duty Operations.

[FR Doc. 2015-25414 Filed 10-5-15; 8:45 am]

BILLING CODE 3510-DS-P